DEPARTMENT OF VETERANS AFFAIRS

Tiered Pharmacy Copayments for Medications; Calendar Year 2021 Update

AGENCY: Department of Veterans Affairs.

ACTION: Notice.

SUMMARY: This Department of Veterans Affairs (VA) Notice updates the information on Tier 1 medications.

FOR FURTHER INFORMATION CONTACT: Joseph Duran, Office of Community Care, Veterans Health Administration, Department of Veterans Affairs, 810 Vermont Avenue NW, Washington, DC 20420; Joseph.Duran2@va.gov; 303-370-1637. This is not a toll-free number.

SUPPLEMENTARY INFORMATION: Section 17.110 of title 38, CFR, governs copayments for medications that VA provides to veterans. Section 17.110 provides the methodologies for establishing the copayment amount for each 30-day or less supply of medication provided by VA on an outpatient basis (other than medication administered during treatment).

Tier 1 medication means a multi-source medication that has been identified using the process described in paragraph (b)(2) of this section. Not less than once per year, VA will identify a subset of multi-source medications as Tier 1 medications. Only medications that meet all of the criteria in 38 CFR 17.110(b)(2)(i), (ii), and (iii) will be eligible to be considered Tier 1 medications, and only those medications that meet all of the criteria in paragraph (b)(2)(i) of this section will be assessed using the criteria in paragraphs (b)(2)(ii) and (iii).

Based on the methodologies set forth in § 17.110, this notice updates the list of Tier 1 medications for Calendar Year 2021. The Tier 1 medication list is posted on VA's Community Care website at the following link: https://www.va.gov/COMMUNITYCARE/revenue_ops/copays.asp under the heading “Tier 1 Copay Medication List.”

The following table is the Tier 1 Copay Medication List that is effective January 1, 2021 and will remain in effect until December 31, 2021.

Condition | VA product name
Arthritis and Pain | Aspirin Buffered Tablet.
| Aspirin Chewable Tablet.
| Aspirin Enteric Coated Tablet.
| Allopurinol Tablet.
| Celecoxib Capsule.
| Diclofenac Tablet.
| Ibuprofen Tablet.
| Meloxicam Tablet.
| Naproxen Tablet.
Blood Thinners and Platelet Inhibitors | Clopidogrel Bisulfate Tablet.
| Warfarin Sodium Tablet.
Bone Health | Alendronate Tablet.
Cholesterol | Atorvastatin Tablet.
| Ezetimibe Tablet.
| Pravastatin Tablet.
| Rosuvastatin Calcium Tablet.
| Simvastatin Tablet.
Dementia | Donepezil Tablet.
Diabetes | Glimepiride Tablet.
| Glipizide Tablet.
| Metformin Hydrochloride (HCL) Tablet.
| Metformin HCL 24-Hour Sustained Action (SA) Tablet.
| Pioglitazone HCL Tablet.
Electrolyte Supplement | Potassium SA Tablet.
| Potassium SA dispersible Tablet.
Gastrointestinal Health | Famotidine Tablet.
| Omeprazole Enteric Coated (EC) Capsule.
| Pantoprazole Sodium EC Capsule.
Glaucoma and Eye Care | Diclofenac Solution.
| Dorzolamide 2%/Timolol 0.5% Solution.
| Latanoprost 0.005% Solution.
| Polyethylene Glycol 400/Polyethylene Glycol 4000 Solution.
| Carboxymethylcellulose Sodium Solution.
Heart Health and Blood Pressure | Amlodipine Tablet.
| Amiodarone HCL Tablet.
| Aspirin (see Arthritis and Pain).
| Atenolol Tablet.
| Carvedilol Tablet.
| Chlorthalidone Tablet.
| Clonidine Tablet.
| Diltiazem 24-Hour Capsule.
| Diltiazem HCL Tablet.
| Enalapril Maleate Tablet.
| Furosemide Tablet.
| Hydralazine HCL Tablet.
| Hydrochlorothiazide Tablet/Capsule.
| Hydrochlorothiazide/Lisinopril Tablet.
| Hydrochlorothiazide/Losartan Tablet.
| Hydrochlorothiazide/Triamterene Tablet/Capsule.
| Isosorbide Mononitrate SA Tablet.
| Lisinopril Tablet.
| Losartan Tablet.
| Metoprolol Succinate SA Tablet.
| Metoprolol Tartrate Tablet.
| Nifedipine SA Capsule.
| Nitroglycerin sublingual Tablet.
| Prazosin HCL Capsule.
| Propranolol HCL Tablet.
| Spironolactone Tablet.
Mental Health | Amitriptyline HCL Tablet.
| Buspirone HCL Tablet.
| Bupropion HCL Tablet.
| Bupropion HCL SA (12HR-SR) Tablet.
| Bupropion HCL SA (24HR-XL) Tablet.
| Citalopram Hydrobromide Tablet.
| Duloxetine HCL EC Capsule.
| Escitalopram Oxalate Tablet.
| Fluoxetine Tablet/Capsule.
| Mirtazapine Tablet.
| Paroxetine Tablet.
| Sertraline HCL Tablet.
| Trazodone Tablet.
| Venlafaxine HCL Immediate (IR) Tablet.
| Venlafaxine HCL SA Capsule.
Respiratory Condition | Montelukast NA Tablet.
Seizures | Gabapentin Capsule.
| Lamotrigine Tablet.
| Topiramate Tablet.
Thyroid Conditions | Levothyroxine Sodium Tablet.
Urologic (Bladder and Prostate) Health | Alfuzosin HCL SA Tablet.
| Doxazosin Mesylate Tablet.
| Finasteride Tablet.
| Oxybutynin Chloride IR Tablet.
| Oxybutynin Chloride SA Tablet.
| Sildenafil Tablet.
| Tamsulosin HCL Capsule.
| Terazosin HCL Capsule.

Signing Authority

Denis McDonough, Secretary of Veterans Affairs, approved this document on February 26, 2021, and authorized the undersigned to sign and submit the document to the Office of the Federal Register for publication electronically as an official document of the Department of Veterans Affairs.

Luvenia Potts,
Regulation Development Coordinator, Office of Regulation Policy & Management, Office of the Secretary, Department of Veterans Affairs.

[FR Doc. 2021-04458 Filed 3-3-21; 8:45 am]

BILLING CODE 8320-01-P